DEPARTMENT OF THE TREASURY

Submission for OMB Review; Comment Request

October 24, 2016.

The Department of the Treasury will submit the following information collection request(s) to the Office of Management and Budget (OMB) for review and clearance in accordance with the Paperwork Reduction Act of 1995, Public Law 104-13, on or after the date of publication of this notice.

DATES: Comments should be received on or before November 28, 2016 to be assured of consideration.

ADDRESSES: Send comments regarding the burden estimates, or any other aspect of the information collection(s), including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Alcohol and Tobacco Tax and Trade Bureau (TTB)

OMB Control Number: 1513-0124.

Type of Review: Revision of a currently approved collection.

Title: Customer Satisfaction Surveys for Permit Applications, Permits Online (PONL), Formulas Online (FONL), and COLAs Online.

Abstract: As part of our efforts to improve customer service, TTB surveys its customers who apply for original or amended permits, submit formula approval requests, and submit requests for certificates of label approval. These surveys assist TTB in identifying potential customer needs and problems, as well as opportunities for improvement in our applications processes, with particular focus on our customers' experiences with TTB's various electronic application systems.

Affected Public: Businesses or other for-profits.

Estimated Total Annual Burden Hours: 6.000.

Bob Faber,
Acting Treasury PRA Clearance Officer.

[FR Doc. 2016-26032 Filed 10-26-16; 8:45 am]

BILLING CODE 4810-31-P